DEPARTMENT OF THE TREASURY

Office of Foreign Assets Control

Additional Designations of Individuals and Entities Pursuant to Executive Order 13448 or Executive Order 13464 and Identifications of Individuals and Entities Blocked Pursuant to the JADE Act

AGENCY: Office of Foreign Assets Control, Treasury.

ACTION: Notice.

SUMMARY: The Treasury Department's Office of Foreign Assets Control (“OFAC”) is publishing the names of two newly-designated individuals and twenty-three entities whose property and interests in property are blocked pursuant to Executive Order 13448 of October 18, 2007, “Blocking Property and Prohibiting Certain Transactions Related to Burma” or Executive Order 13464 of April 30, 2008, “Blocking Property and Prohibiting Certain Transactions Related to Burma.” OFAC is also identifying certain individuals and entities that are subject to the blocking provisions of the Tom Lantos Block Burmese JADE (Junta's Anti-Democratic Efforts) Act of 2008 (the “JADE Act”).

DATES: The designation by the Director of OFAC of two individuals and twenty-three entities identified in this notice, pursuant to Executive Order 13448 or Executive Order 13464 is effective January 15, 2009.

FOR FURTHER INFORMATION CONTACT: Assistant Director, Compliance Outreach & Implementation, Office of Foreign Assets Control, Department of the Treasury, 1500 Pennsylvania Avenue, NW., (Treasury Annex), Washington, DC 20220, Tel.: 202/622-2490.

SUPPLEMENTARY INFORMATION:

Electronic and Facsimile Availability

Information about these designations and additional information concerning OFAC are available from OFAC's Web site (www.treas.gov/ofac) or via facsimile through a 24-hour fax-on-demand service, Tel.: 202/622-0077.

Background to Designations Made Pursuant to Executive Order 13448

On October 18, 2007, the President signed Executive Order 13448 (the “Order”) pursuant to, inter alia, the International Emergency Economic Powers Act (50 U.S.C. 1701 et seq.). In the Order, the President took additional steps with respect to, and expanded, the national emergency declared in Executive Order 13047 of May 20, 1997, to address the Government of Burma's continued repression of the democratic opposition in Burma. The President identified twelve individuals and entities in the Annex to the Order as subject to the economic sanctions.

Section 1 of the Order blocks, with certain exceptions, all property and interests in property that are in, or hereafter come within, the United States, or within the possession or control of United States persons, of the persons listed in the Annex, as well as those persons determined by the Secretary of the Treasury, after consultation with the Secretary of State, to satisfy any of the criteria set forth in subparagraphs (b)(i)-(b)(vi) of Section 1. On January 15, 2009, the Director of OFAC exercised the Secretary of the Treasury's authority to designate, pursuant to one or more of the criteria set forth in Section 1, subparagraphs (b)(i)-(b)(vi) of the Order, the following two individuals and twelve entities, whose names have been added to the list of Specially Designated Nationals and whose property and interests in property are blocked pursuant to Executive Order 13448:

Individuals

1. AUNG, Win (a.k.a. AUNG, Dagon Win; a.k.a. AUNG, U Win); DOB circa 1953; nationality Burma; c/o Dagon International Limited; c/o Dagon Timber Limited (individual) [BURMA] [JADE]

2. ZAW, Zaw (a.k.a. ZAW, U Zaw); DOB 22 Oct 1966; citizen Burma; nationality Burma; Passport 828461 (Burma) issued 18 May 2006 expires 17 May 2009; c/o Hotel Max; c/o Max Myanmar Group of Companies; c/o Max Singapore International Pte. Ltd. (individual) [BURMA] [JADE]

Entities

1. DAGON INTERNATIONAL LIMITED (a.k.a. DAGON INTERNATIONAL; a.k.a. DAGON INTERNATIONAL CONSTRUCTION COMPANY), Dagon Centre, 6th Floor, 262-264 Pyay Road, Myayingone, Sanchaung Township, Yangon, Burma [BURMA] [JADE]

2. DAGON TIMBER LIMITED (a.k.a. DAGON TIMBER), Dagon Centre, 262-264 Pyay Road, Myaynigone, Yangon, Burma [BURMA]

3. ESPACE AVENIR EXECUTIVE SERVICED APARTMENT (a.k.a. ESPACE AVENIR), No. 523, Pyay Road, Kamaryut Township, Yangon, Burma [BURMA] [JADE]

4. HOTEL MAX (a.k.a. HOTEL CHAUNG THA BEACH RESORT), No. 1 Ywama Curve, Ba Yint Naung Road, Block-2, Hlaing Township, Yangon, Burma [BURMA]

5. MAX MYANMAR GROUP OF COMPANIES (a.k.a. MAX MYANMAR; a.k.a. MAX MYANMAR CO.; a.k.a. MAX MYANMAR COMPANY LIMITED; a.k.a. MAX MYANMAR GROUP), No. 1 Ywama Curve, Ba Yint Naung Road, Ward (2), Hlaing Township, Yangon, Burma [BURMA] [JADE]

6. MAX (MYANMAR) CONSTRUCTION CO., LTD (a.k.a. CONSTRUCTION CO., LTD.), 1Ywama Curve, Bayint Naung Road, Ward (2), Hlaing Township, Yangon, Burma [BURMA] [JADE]

7. MAX MYANMAR GEMS AND JEWELLERY CO., LTD. (a.k.a. GEMS AND JEWELLERY CO., LTD.), 1 Ywama Curve, Bayint Naung Road, Ward (2), Hlaing Township, Yangon, Burma [BURMA] [JADE]

8. MAX MYANMAR MANUFACTURING CO., LTD. (a.k.a. MANUFACTURING CO., LTD.), 1 Ywama Curve, Bayint Naung Road, Ward (2), Hlaing Township, Yangon, Burma [BURMA] [JADE]

9. MAX MYANMAR SERVICES CO., LTD. (a.k.a. SERVICES CO., LTD.), 1 Ywama Curve, Bayint Naung Road, Ward (2), Hlaing Township, Yangon, Burma [BURMA] [JADE]

10. MAX MYANMAR TRADING CO., LTD. (a.k.a. TRADING CO., LTD.), 1 Ywama Curve, Bayint Naung Road, Ward (2), Hlaing Township, Yangon, Burma BURMA] [JADE]

11. MAX SINGAPORE INTERNATIONAL PTE. LTD., 3 Shenton Way, #24-02, Shenton House 068805, Singapore [BURMA] [JADE]

12. ROYAL KUMUDRA HOTEL, No. 1 Ywama Curve, Ba Yint Naung Road, Block (2), Hlaing Township, Rangoon, Burma; No. 9 Hotel Zone, Nay Pyi Taw, Burma [BURMA] [JADE]

Background to Designations Made Pursuant to Executive Order 13464

On April 30, 2008, the President signed Executive Order 13464 (the “Order”) pursuant to, inter alia, the International Emergency Economic Powers Act (50 U.S.C. 1701 et seq.). In the Order, the President took additional steps with respect to the national emergency declared in Executive Order 13047 of April 20, 1997, and expanded in Executive Order 13448 of October 18, 2007, to address the Government of Burma's continued repression of the democratic opposition in Burma. The President identified three entities as subject to the economic sanctions in the Annex to the Order.

Section 1 of the Order blocks, with certain exceptions, all property and interests in property that are in, or hereafter come within, the United States, or within the possession or control of United States persons, of the persons listed in the Annex, as well as those persons determined by the Secretary of the Treasury, after consultation with the Secretary of State, to satisfy any of the criteria set forth in subparagraphs (b)(i)—(b)(iii) of Section 1. On January 15, 2009, the Director of OFAC exercised the Secretary of the Treasury's authority to designate, pursuant to one or more of the criteria set forth in Section 1, subparagraphs (b)(i)-(b)(iii) of the Order, the following eleven entities, whose names have been added to the list of Specially Designated Nationals and whose property and interests in property are blocked pursuant to Executive Order 13464:

Entity

1. MYANMAR IVANHOE COPPER COMPANY LIMITED (a.k.a. MICCL; a.k.a. MYANMAR IVANHOE COPPER CO. LTD.; a.k.a. MONYWA JVCO); 70 (I) Bo Chein Street, 6.5 miles Pyay Road, Yangon, Burma; No. 70 (I) Bo Chein Street, Pyay Road, Hlaing Township, Yangon, Burma; Monywa, Sagaing Division, Burma; (ENTITY) [BURMA]

2. GOLDEN AARON PTE. LTD., 3 Shenton Way, 10-01 Shenton House, Singapore 068805, Singapore; 101 Cecil Street, 08-08 Tong Eng Building, Singapore, 069533, Singapore; (ENTITY) [BURMA] [JADE]

3. G A ARDMORE PTE. LTD., 101 Cecil Street, 08-08 Tong Eng Building, Singapore 069533, Singapore; 3 Shenton Way, 10-01 Shenton House, Singapore 068805, Singapore; (ENTITY) [BURMA] [JADE]

4. G A CAPITAL PTE. LTD., 101 Cecil Street, 08-08 Tong Eng Building, Singapore 069533, Singapore; (ENTITY) [BURMA] [JADE]

5. G A FOODSTUFFS PTE. LTD., 101 Cecil Street, 08-08 Tong Eng Building, Singapore 069533, Singapore; (ENTITY) [BURMA] [JADE]

6. G A LAND PTE. LTD., 1 Scotts Road, 21-07/08 Shaw House, Singapore 228208, Singapore; (ENTITY) [BURMA] [JADE]

7. G A RESORT PTE. LTD., 1 Scotts Road, 21-07 Shaw House, Singapore 228208, Singapore; 3 Shenton Way, 10-01 Shenton House, Singapore 068805, Singapore; (ENTITY) [BURMA] [JADE]

8. G A SENTOSA PTE. LTD., 101 Cecil Street, 08-08 Tong Eng Building, Singapore 069533, Singapore; (ENTITY) [BURMA] [JADE]

9. G A TREASURE PTE. LTD., 3 Shenton Way, 10-01 Shenton House, Singapore 068805, Singapore; (ENTITY) [BURMA] [JADE]

10. G A WHITEHOUSE PTE. LTD., 3 Shenton Way, 10-01 Shenton House, Singapore 068805, Singapore; (ENTITY) [BURMA] [JADE]

11. SENTOSA TREASURE PTE. LTD., 3 Shenton Way, 10-01 Shenton House, Singapore 068805, Singapore; (ENTITY) [BURMA] [JADE]

Background to Identifications Made Pursuant to the Tom Lantos Block Burmese JADE (Junta's Anti-Democratic Efforts) Act of 2008

On July 29, 2008, the President signed into law the Tom Lantos Block Burmese JADE (Junta's Anti-Democratic Efforts) Act of 2008 (Pub. L. 110-286) (“JADE Act”). Section 5(b)(1) of the JADE Act blocks, with certain exceptions, all property and interests in property that are in, or hereafter come within, the United States, or within the possession or control of a United States person, of those persons described in Section 5 (a)(1). On January 15, 2009, the Director of OFAC identified as being described in Section 5(a)(1) of the JADE Act certain persons whose names have, as discussed above, been added to the list of Specially Designated Nationals and whose property and interests in property are blocked pursuant to IEEPA and the JADE Act. The names of persons whose property and interests in property have been identified as blocked pursuant to the JADE Act are accompanied by the identifier “[BURMA][JADE].”

Dated: January 15, 2009.
Adam J. Szubin,
Director, Office of Foreign Assets Control.

[FR Doc. E9-1311 Filed 1-22-09; 8:45 am]

BILLING CODE 4811-42-P